DEPARTMENT OF COMMERCE

International Trade Administration

[A-489-807]

Certain Steel Concrete Reinforcing Bars from Turkey; Notice of Amended Final Results Pursuant to Court Decision

AGENCY: Import Administration, International Trade Administration, Department of Commerce.

SUMMARY: On March 13, 2006, the United States Court of International Trade (CIT) sustained the final remand redetermination made by the Department of Commerce (the Department) pursuant to the CIT's remand of the final results of the 2002-2003 administrative review of certain steel concrete reinforcing bars (rebar) from Turkey. See Colakoglu Metalurji A.S. v. United States, 2006 Ct. Intl. Trade LEXIS 36; Slip Op. 2006-36 (Mar. 13, 2006) (Colakoglu Remand). In this remand, the Department recalculated the margin for Colakoglu Metalurji A.S. and Colakoglu Dis Ticaret (collectively “Colakoglu”), a Turkish exporter/producer of subject merchandise, to use Colakolgu's reported “order” date as the U.S. date of sale. Because all litigation in this matter has now concluded, the Department is issuing its amended final results in accordance with the CIT's decision.

EFFECTIVE DATE: May 31, 2006.

FOR FURTHER INFORMATION CONTACT: Irina Itkin or Alice Gibbons, AD/CVD Operations, Office 2, Import Administration, International Trade Administration, U.S. Department of Commerce, 14th Street and Constitution Avenue, NW., Washington, DC, 20230; telephone (202) 482-0656 or (202) 482-0498, respectively.

SUPPLEMENTARY INFORMATION:

Background

On November 8, 2004, the Department published its final results, covering the period of review from April 1, 2002, through March 31, 2003. See Certain Steel Concrete Reinforcing Bars From Turkey; Final Results, Rescission of Antidumping Duty Administrative Review in Part, and Determination Not To Revoke in Part, 69 FR 64731 (Nov. 8, 2004) (Final Results), as corrected by Certain Steel Concrete Reinforcing Bars From Turkey; Corrected Final Results of Antidumping Duty Administrative Review, 69 FR 68883 (Nov. 26, 2004). In May 2004, Colakoglu contested the Department's date-of-sale methodology for its U.S. sales. On September 27, 2005, the CIT remanded this issue to the Department for further review based on the Department's request to reconsider this issue. See Colakoglu Metalurji A.S. v. United States, 394 F.Supp.2d 1379 (CIT 2005).

On November 18, 2005, the Department issued the draft results of redetermination pursuant to remand (draft results) for comment by interested parties. In the draft results, the Department explained that upon reconsideration of the date-of-sale methodology used for Colakoglu, it found that the material terms of sale for Colakoglu's U.S. sales were established at the order date. Therefore, the Department stated that it would recalculate the margin using Colakoglu's reported order date as the date of sale.

On November 28, 2005, the Department received comments on the draft results from Gerdau AmeriSteel Corporation, Commercial Metals Company (SMI Steel Group), and Nucor Corporation (collectively “the petitioners”). On November 30, 2006, the Department received rebuttal comments from Colakoglu. On January 13, 2006, the Department issued its final results of redetermination pursuant to remand to the CIT. After analyzing the comments submitted by interested parties, the Department continued to find that the appropriate date of sale for Colakolgu's U.S. sales for the time period in question was the order date.

On March 13, 2006, the CIT found that the Department complied with the CIT's remand order and sustained the Department's remand redetermination. See Colakoglu Remand. On March 24, 2006, consistent with the decision of the United States Court of Appeals for the Federal Circuit in Timken Co. v. United States, 893 F. 2d 337 (Fed. Cir. 1990), the Department notified the public that the CIT's decision was “not in harmony” with the Department's November 2004 Final Results. See Certain Steel Concrete Reinforcing Bars from Turkey: Notice of Court Decision Not in Harmony with Final Results of Administrative Review, 71 FR 14835 (Mar. 24, 2006). No party appealed the CIT's decision. Because there is now a final and conclusive decision in the court proceeding, we are issuing amended final results to reflect the results of the remand determination.

Amended Final Results of Review

We are amending the final results of the 2002-2003 review on the antidumping duty order on rebar from Turkey to reflect a revised weighted-average margin of 4.91 percent for Colakoglu for the period April 1, 2002, through March 31, 2003.

Assessment

The Department shall determine, and U.S. Customs and Border Protection (CBP) shall assess, antidumping duties on all appropriate entries.

Because Colakoglu did not report the entered value for the U.S. sales in question, we have calculated importer-specific assessment rates by aggregating the dumping margins calculated for all U.S. sales to each importer and dividing this amount by the total quantity of those sales. To determine whether the duty assessment rates were de minimis, in accordance with the requirement set forth in 19 CFR 351.106(c)(2), we calculated importer-specific ad valorem ratios based on the export prices. Pursuant to 19 CFR 351.106(c)(2), we will instruct CBP to liquidate without regard to antidumping duties any entries for which the assessment rate is de minimis (i.e., less than 0.50 percent). The Department will issue appraisement instructions directly to CBP.

This notice is issued and published in accordance with sections 751(a)(1) and 777(i)(1) of the Tariff Act of 1930, as amended.

Dated: May 23, 2006.
David M. Spooner,
Assistant Secretary for Import Administration.

[FR Doc. E6-8385 Filed 5-30-06; 8:45 am]

BILLING CODE 3510-DS-S